DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Date of modification | Community No.
Alabama:
Limestone (FEMA Docket No.: B-2517) | City of Huntsville (24-04-7956P) | The Honorable Thomas Battle, Jr., Mayor, City of Huntsville, P.O. Box 308, Huntsville, AL 35804 | City Hall, 308 Fountain Circle Southwest, Huntsville, AL 35804 | Jul. 10, 2025 | 010153
Tuscaloosa (FEMA Docket No.: B-2520) | City of Northport (24-04-5206P) | The Honorable John Hinton, Mayor, City of Northport, 3500 McFarland Boulevard, Northport, AL 35476 | City Hall, 3500 McFarland Boulevard, Northport, AL 35476 | Jun. 20, 2025 | 010202
Tuscaloosa (FEMA Docket No.: B-2520) | City of Tuscaloosa (24-04-5206P) | The Honorable Walt Maddox, Mayor, City of Tuscaloosa, 2201 University Boulevard, Tuscaloosa, AL 35401 | City Hall, 2201 University Boulevard, Tuscaloosa, AL 35401 | Jun. 20, 2025 | 010203
Tuscaloosa (FEMA Docket No.: B-2520) | Unincorporated areas of Tuscaloosa County (24-04-5206P) | Ward “Rob” Robertson, III, Chair, Tuscaloosa County Commission, 714 Greensboro Avenue, Tuscaloosa, AL 35401 | Tuscaloosa County Courthouse, 714 Greensboro Avenue, Room 121, Tuscaloosa, AL 35401 | Jun. 20, 2025 | 010201
Arkansas:
Pope (FEMA Docket No.: B-2506) | City of Russellville (24-06-1681P) | The Honorable Fred Teague, Mayor, City of Russellville, 203 South Commerce Avenue, Russellville, AR 72801 | City Hall, 203 South Commerce Avenue, Russellville, AR 72801 | May 15, 2025 | 050178
Sebastian (FEMA Docket No.: B-2510) | Unincorporated areas of Sebastian County (24-06-1908P) | The Honorable Steve Hotz, Sebastian County Judge, 35 South 6th Street, Room 106, Fort Smith, AR 72901 | Sebastian County Courthouse, 35 South 6th Street, Fort Smith, AR 72901 | Jun. 2, 2025 | 050462
Florida:
Collier (FEMA Docket No.: B-2514) | City of Marco Island (24-04-6390P) | Michael McNees, Manager, City of Marco Island, 50 Bald Eagle Drive, Marco Island, FL 34145 | Building Services Department, 50 Bald Eagle Drive, Marco Island, FL 34145 | Jun. 16, 2025 | 120426
Manatee (FEMA Docket No.: B-2520) | City of Bradenton (24-04-4585P) | The Honorable Gene Brown, Mayor, City of Bradenton, 101 Old Main Street Bradenton, FL 34205 | Building Department, 101 Old Main Street Bradenton, FL 34205 | Jun. 9, 2025 | 120155
Manatee (FEMA Docket No.: B-2520) | Unincorporated areas of Manatee County (23-04-6199P) | Charlie Bishop, Manatee County Administrator, 1112 Manatee Avenue West, Bradenton, FL 34205 | Manatee County Administration Building, 1112 Manatee Avenue West, Bradenton, FL 34205 | Jun. 19, 2025 | 120153
Monroe (FEMA Docket No.: B-2517) | Unincorporated areas of Monroe County (25-04-0146P) | The Honorable Holly Merrill Raschein, Mayor, Monroe County Board of Commissioners, 102050 Overseas Highway, Suite 234, Key Largo, FL 33037 | Monroe County Building Department, 2798 Overseas Highway, Suite 300 Marathon, FL 33050 | May 16, 2025 | 125129
Monroe (FEMA Docket No.: B-2522) | Village of Islamorada (24-04-5214P) | The Honorable Sharon Mahoney, Mayor, Village of Islamorada, 86800 Overseas Highway, Islamorada, FL 33036 | Building Department, 86800 Overseas Highway, Islamorada, FL 33036 | Jun. 20, 2025 | 120424
Orange (FEMA Docket No.: B-2510) | Unincorporated areas of Orange County (24-04-0093P) | The Honorable Jerry L. Demings, Mayor, Orange County, 201 South Rosalind Avenue, 5th Floor, Orlando, FL 32801 | Orange County Public Works Department, Stormwater Management Division, 4200 South John Young Parkway, Orlando, FL 32839 | Jun. 2, 2025 | 120179
Pasco (FEMA Docket No.: B-2517) | Unincorporated areas of Pasco County (24-04-5324P) | Ron Oakley, Chair, Pasco County Board of Commissioners, 8731 Citizens Drive, New Port Richey, FL 33525 | Building Construction Services Department, 8661 Citizens Drive, Suite 100, New Port Richey, FL 34654 | Jun. 23, 2025 | 120230
St. Johns (FEMA Docket No.: B-2510) | Unincorporated areas of St. Johns County (24-04-2968P) | Joy Andrews, St. Johns County Administrator, 500 San Sebastian View, St. Augustine, FL 32084 | St. Johns County Administration Building, 500 San Sebastian View, St. Augustine, FL 32084 | Jun. 2, 2025 | 125147
St. Johns (FEMA Docket No.: B-2510) | Unincorporated areas of St. Johns County (24-04-5086P). | Joy Andrews, St. Johns County Administrator, 500 San Sebastian View, St. Augustine, FL 32084. | St. Johns County Administration Building, 500 San Sebastian View, St. Augustine, FL 32084. | Jun. 4, 2025 | 125147
Seminole (FEMA Docket No.: B-2520) | City of Lake Mary (24-04-2032P) | Kevin Smith, Manager, City of Lake Mary, 100 North Country Club Road, Lake Mary, FL 32746 | Department of Public Works, 911 Wallace Court, Lake Mary, FL 32746 | Jun. 12, 2025 | 120416
Georgia:
Clayton (FEMA Docket No.: B-2517) | Unincorporated areas of Clayton County (24-04-4762P) | The Honorable Alieka Anderson-Henry, Chair, Clayton County Board of Commissioners, 112 Smith Street, Annex 1, Jonesboro, GA 30236 | Clayton County Government Building, 112 Smith Street, Annex 1, Jonesboro, GA 30236 | May 29, 2025 | 130041
Seminole (FEMA Docket No.: B-2517) | City of Donalsonville (24-04-2309P) | The Honorable Ron Johnson Jr., Mayor, City of Donalsonville, 127 East 2nd Street, Donalsonville, GA 39845 | City Hall, 127 East 2nd Street, Donalsonville, GA 39845 | May 16, 2025 | 130164
Seminole (FEMA Docket No.: B-2517) | Unincorporated areas of Seminole County (24-04-2309P) | The Honorable Shelia Williams, Chair, Seminole County, Board of Commissioners, 230 Cherry Street, Donalsonville, GA 39845 | Seminole County Courthouse Annex, 230 Cherry Street, Donalsonville, GA 39845 | May 16, 2025 | 130387
Illinois: Richland (FEMA Docket No.: B-2510) | City of Olney (25-05-0277P) | The Honorable Mark Lambird, Mayor, City of Olney, 300 South Whittle Avenue, Olney, IL 62450 | City Hall, 300 South Whittle Avenue, Olney, IL 62450 | May 30, 2025 | 170581
Kansas:
Johnson (FEMA Docket No.: B-2506) | City of Olathe (24-07-0011P) | The Honorable John Bacon, Mayor, City of Olathe, 100 East Santa Fe Street, Olathe, KS 66061 | City Hall, 100 East Santa Fe Street, Olathe, KS 66061 | May 28, 2025 | 200173
Johnson (FEMA Docket No.: B-2506) | City of Overland Park (24-07-0011P) | The Honorable Curt Skoog, Mayor, City of Overland Park, 8500 Santa Fe Drive, Overland Park, KS 66212 | City Hall, 8500 Santa Fe Drive, Overland Park, KS 66212 | May 28, 2025 | 200174
Louisiana: St. Martin (FEMA Docket No.: B-2514) | Town of Breaux Bridge (24-06-0802P) | The Honorable Ricky Calais, Mayor, Town of Breaux Bridge, 101 Berard Street, Breaux Bridge, LA 70517 | Town Hall, 101 Berard Street, Breaux Bridge, LA 70517 | Jun. 20, 2025 | 220180
Massachusetts: Essex (FEMA Docket No.: B-2514) | City of Gloucester (24-01-0549P) | The Honorable Greg Varga, Mayor, City of Gloucester, 9 Dale Avenue, Gloucester, MA 01930 | City Hall, 3 Pond Road, 2nd Floor, Gloucester, MA 01930 | Jun. 13, 2025 | 250082
Michigan: Kalamazoo (FEMA Docket No.: B-2510) | City of Portage (23-05-2858P) | The Honorable Patricia M. Randall, Mayor, City of Portage, 7900 South Westnedge Avenue, Portage, MI 49002 | City Hall, 7900 South Westnedge Avenue, Portage, MI 49002 | Jun. 9, 2025 | 260577
Minnesota: Dakota (FEMA Docket No.: B-2506) | City of Lakeville (23-05-1132P) | The Honorable Luke Hellier, Mayor, City of Lakeville, 20195 Holyoke Avenue, Lakeville, MN 55044 | City Hall, 20195 Holyoke Avenue, Lakeville, MN 55044 | May 5, 2025 | 270107
Missouri: Jackson (FEMA Docket No.: B-2506) | City of Kansas City (24-07-0136P) | The Honorable Quinton Lucas, Mayor, City of Kansas City, 414 East 12th Street, 29th Floor, Kansas City, MO 64106 | Planning and Development Department, 414 East 12th Street, Kansas City, MO 64106 | May 28, 2025 | 290173
New Mexico:
Bernalillo (FEMA Docket No.: B-2510) | City of Albuquerque (24-06-0847P) | The Honorable Tim Keller, Mayor, City of Albuquerque, 400 Marquette Avenue Northwest, Albuquerque, NM 87103 | Planning Department, 600 2nd Street Northwest, Albuquerque, NM 87102 | Jun. 5, 2025 | 350002
Bernalillo (FEMA Docket No.: B-2510) | Unincorporated areas of Bernalillo County (24-06-0847P) | Cindy Chavez, Bernalillo County Manager, 415 Silver Avenue Southwest, 8th Floor, Albuquerque, NM 87102 | Bernalillo County Clerk's Office, 415 Silver Avenue Southwest, Albuquerque, NM 87102 | Jun. 5, 2025 | 350001
North Carolina: Mecklenburg (FEMA Docket No.: B-2514) | City of Charlotte (24-04-4185P) | The Honorable Vi Alexander Lyles, Mayor, City of Charlotte, 600 East 4th Street, Charlotte, NC 28202 | Mecklenburg County Stormwater Services Department, 2145 Suttle Avenue, Charlotte, NC 28208 | Jun. 18, 2025 | 370159
Texas:
Collin (FEMA Docket No.: B-2510) | City of Carrollton (25-06-0171P) | The Honorable Steve Babick, Mayor, City of Carrollton, P.O. Box 110535, Carrollton, TX 75006 | City Hall, 1945 East Jackson Road, Carrollton, TX 75006 | Jun. 3, 2025 | 480167
Collin (FEMA Docket No.: B-2514) | City of Celina (24-06-1556P) | The Honorable Ryan Tubbs, Mayor, City of Celina, 142 North Ohio Street, Celina, TX 75009 | City Hall, 142 North Ohio Street, Celina, TX 75009 | Jun. 23, 2025 | 480133
Collin (FEMA Docket No.: B-2520) | City of Lavon (24-06-2255P) | The Honorable Vicki Sanson, Mayor, City of Lavon, 120 School Road, Lavon, TX 75166 | City Hall, 120 School Road, Lavon, TX 75166 | Jun. 9, 2025 | 481313
Collin (FEMA Docket No.: B-2510) | City of Plano (24-06-1256P) | The Honorable John B. Muns, Mayor, City of Plano, 1520 K Avenue, Plano, TX 75074 | City Hall, 1520 K Avenue, Plano, TX 75074 | Jun. 2, 2025 | 480140
Collin (FEMA Docket No.: B-2514) | City of Plano (24-06-1585P) | The Honorable John B. Muns, Mayor, City of Plano, 1520 K Avenue, Plano, TX 75074 | City Hall, 1520 K Avenue, Plano, TX 75074 | Jun. 23, 2025 | 480140
Collin (FEMA Docket No.: B-2520) | Unincorporated areas of Collin County (24-06-2255P) | The Honorable Chris Hill, Collin County Judge, 2300 Bloomdale Road, 1st Floor, McKinney, TX 75071 | Collin County Engineering and Building Department, 4690 Community Avenue, Suite 200, McKinney, TX 75071 | Jun. 9, 2025 | 480130
Denton (FEMA Docket No.: B-2522) | Town of Flower Mound (23-06-2563P) | James Childers, Manager, Town of Flower Mound, 2121 Cross Timbers Road, Flower Mound, TX 75028 | Town Hall, 2121 Cross Timbers Road, Flower Mound, TX 75028 | Jun. 23, 2025 | 480777
Denton (FEMA Docket No.: B-2522) | Unincorporated areas of Denton County (24-06-2435P) | The Honorable Andy Eads, Denton County Judge, 1 Courthouse Drive, Suite 3100, Denton, TX 76208 | Denton County Development Services Department, 3900 Morse Street Denton, TX 76208 | Jun. 23, 2025 | 480774
Tarrant (FEMA Docket No.: B-2514) | City of Fort Worth (24-06-1081P) | The Honorable Mattie Parker, Mayor, City of Fort Worth, 100 Fort Worth Trail, Fort Worth, TX 76102 | Department of Transportation and Public Works, 100 Fort Worth Trail, Fort Worth, TX 76102 | Jun. 20, 2025 | 480596
Travis (FEMA Docket No.: B-2514) | City of Austin (24-06-1389P) | T. C. Broadnax, Manager, City of Austin, P.O. Box 1088, Austin, TX 78767 | Austin Courthouse, 505 Barton Springs Road, Austin, TX 78704 | Jun. 23, 2025 | 480624
Travis (FEMA Docket No.: B-2514) | Unincorporated areas of Travis County (24-06-1389P) | The Honorable Andy Brown, Travis County Judge, P.O. Box 1748, Austin, TX 78767 | Travis County Transportation and Natural Resources, 700 Lavaca Street, 5th Floor Austin, TX 78701 | Jun. 23, 2025 | 481026

[FR Doc. 2025-13542 Filed 7-17-25; 8:45 am]

BILLING CODE 9110-12-P